DEPARTMENT OF HEALTH AND HUMAN SERVICES

National Institutes of Health

National Institute on Aging; Amended Notice of Meeting

Notice is hereby given of a change in the meeting of the National Institute on Aging Special Emphasis Panel, which was published in the Federal Register on May 02, 2022, 309939.

Dr. Prasad changed the date from 05/06/22 to 05/05/22. The meeting is closed to the public.

Dated: May 5, 2022.
Miguelina Perez,
Program Analyst, Office of Federal Advisory Committee Policy.

[FR Doc. 2022-10055 Filed 5-10-22; 8:45 am]

BILLING CODE 4140-01-P